DEPARTMENT OF COMMERCE

Bureau of Industry and Security

Submission for OMB Review; Comment Request

The Department of Commerce will submit to the Office of Management and Budget (OMB) for clearance the following proposal for collection of information under the provisions of the Paperwork Reduction Act (44 U.S.C. chapter 35).

Agency: Bureau of Industry and Security.

Title: License Transfer and Duplicate License Services.

Form Number(s): N/A.

OMB Control Number: 0694-0126.

Type of Review: Regular submission.

Estimated Total Annual Burden Hours: 31.

Estimated Number of Respondents: 110.

Estimated Time per Response: 1 to 30 minutes.

Needs and Uses: The collection is necessary under Section 750.9 of the Export Administration Regulation (EAR) which outlines the process for obtaining a duplicate license when a license is lost or destroyed. Section 750.10 of the EAR explains the procedure for transfer of ownership of validated export licenses. Both activities are services provided after the license approval process. The supporting statement will use the terms “transfer” and “duplicate” to distinguish the unique activities of each. When no distinction is made, the response supports both activities.

Affected Public: Business or other for-profit organizations.

Frequency: On Occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov.

Sheleen Dumas,
Departmental Lead PRA Officer, Office of the Chief Information Officer.

[FR Doc. 2018-25261 Filed 11-19-18; 8:45 am]

BILLING CODE 3510-33-P